DEPARTMENT OF ENERGY

Federal Energy Regulatory Commission

[Project No. 4285-046]

The City of Logan, Utah; Notice of Availability of Environmental Assessment

In accordance with the National Environmental Policy Act of 1969, as amended, and the Federal Energy Regulatory Commission's regulations (18 CFR part 380), Commission staff has reviewed the application for non-capacity amendment of license, filed May 8, 2015, to replace or rehabilitate several portions of the Third Dam facilities that are part of the Logan No. 2 Project, which is located on the Logan River, near the City of Logan, in Cache County, Utah.

The project licensee, the City of Logan (City), is proposing to: (1) Replace the spillway crest gates with Obermeyer weirs; (2) replace spillway abutment walls; (3) armor the abutments of the dam, which may consist of a combination of riprap and/or roller compacted concrete; (4) replace the penstock isolation gate (radial gate) with an Obermeyer weir gate; (5) replace the trash rack at the intake structure; (6) replace the low level sluice gatehouse; (7) rehabilitate the upstream face of dam; (8) dredge about 100,000 cubic yards of sediment from the reservoir; (9) refurbish the electrical generating equipment, which includes replacing the existing runners, wicket gates, and associated parts that are damaged; (10) recoat the interior and exterior of the steel portion of the penstock to reduce corrosion potential; and (11) replace the roof and repair the walls of the existing surge tank.

An environmental assessment (EA) has been prepared as part of staff's review of the proposal. In the EA, Commission staff analyzed the probable environmental effects of the planned work and concluded that approval of the work, with appropriate environmental measures, would not constitute a major federal action significantly affecting the quality of the human environment.

The EA is available for review and reproduction at the Commission's Public Reference Room, located at 888 First Street NE., Room 2A, Washington, DC 20426. The EA may also be viewed on the Commission's Web site at http://www.ferc.gov using the “eLibrary” link. Enter the docket number (P-4285) in the docket number field to access the document. For assistance, contact FERC Online Support at FERCOnlineSupport@ferc.gov or toll-free at 1-866-208-3372, or for TTY, (202) 502-8659.

All comments on the EA and supplement must be filed by October 3, 2016, and should reference Project No. 4285-046. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE., Washington, DC 20426.

For further information, contact Rebecca Martin at (202) 502-6012 or Rebecca.Martin@ferc.gov.

Dated: September 2, 2016.
Kimberly D. Bose,
Secretary.

[FR Doc. 2016-21745 Filed 9-8-16; 8:45 am]

BILLING CODE 6717-01-P